ENVIRONMENTAL PROTECTION AGENCY

[ER-FRL-6607-5]

Environmental Impact Statements; Notice of Availability

Responsible Agency: Office of Federal Activities, General Information (202) 564-7167 or www.epa.gov/oeca/ofa.

Weekly receipt of Environmental Impact Statements

Filed May 15, 2000 Through May 19, 2000

Pursuant to 40 CFR 1506.9.

EIS No. 000146, Final EIS, USA, HI, Schofield Barracks Wastewater Treatment Plant (WWTP), Effluent Treatment and Disposal, NPDES Permit and COE Section 404 Permit, City of County of Honolulu, Oahu, HI, Due: June 26, 2000, Contact: William Eng (703) 428-7078.

EIS No. 000147, Draft EIS, AFS, ID, East Beaver and Miner's Creek Timber Sales and Prescribed Burning Project, Implementation, Caribou-Targhee National Forest, Dubois Ranger District, Clark County, ID, Due: July 10, 2000, Contact: John Councilman (208) 374-5422.

EIS No. 000148, Draft EIS, FHW, MO, US Route 65/US Route 36 in Livingston County, Transportation Improvements, Funding and COE Section 404 Permit, Livingston County, MO, Due: July 10, 2000, Contact: Carole Hopkins (573) 526-6680.

EIS No. 000149, Draft EIS, FHW, TX, Grand Parkway (TX-99) Segment C, Construction from US 59 to TX 288, Funding and Right-of-Way Requirements, City of Houston, Fort Bend and Brazoria Counties, TX, Due: July 13, 2000, Contact: John Mack (512) 916-5516.

EIS No. 000150, Draft EIS, AFS, CA, 64-Acre Tract Intermodal Transit Center, Construction and Operation, Lake Tahoe Basin Management Unit, Tahoe City, Placer County, CA, Due: July 21, 2000, Contact: Joe Oden (530) 573-2653.

EIS No. 000151, Final EIS, FHW, FL, FL-423 (John Young Parking), Improvements from FL-50 to FL-434, City of Orlando, Orange County, FL, Due: June 26, 2000, Contact: Mark Bartlett (850) 942-9650.

EIS No. 000152, Draft EIS, RUS, KY, Jackson County Lake Project, Implementation, To Provide Adequate Water Supplies for the Projected Residential, Commercial and Industrial Needs, Funding and Possible COE Section 10 and 404 Permits, Jackson County, KY, Due: July 10, 2000, Contact: Mark S. Plank (202) 720-1649.

EIS No. 000153, Draft EIS, FTA, NY, East Side Access Project, Improve Access to Manhattan's East Side for Commuters in the Long Island Transportation Corridor (LITC), MTA Long Island Rail Road (LIRR), Funding, Nassau, Suffolk, New York, Queens and Bronx Counties, NY, Due: July 12, 2000, Contact: Anthony G. Carr (212) 668-2175.

EIS No. 000154, Draft EIS, GSA, MA, U.S. Courthouse Springfield, Construction, Hampden County, MA, Due: July 11, 2000, Contact: Frank Saviano (617) 565-5494.

EIS No. 000155, Draft EIS, AFS, MT, Discovery Ski Area Expansion, Implementation, Special-Use-Permit and COE Section 404 Permit, Beaverhead-Deerlodge National Forest, Pintler Ranger District, Rumsey Mountain, Granite County, MT, Due: July 10, 2000, Contact: Bob Gilman (406) 859-3211.

EIS No. 000156, Final EIS, AFS, WY, ID, Targhee National Forest Plan Oil and Gas Leasing Analysis, Implementation, Bonneville, Butte, Clark, Fremont and Madison Counties, ID and Teton County, WY, Due: June 26, 2000, Contact: Wally Bunnell (208) 624-3151.

Amended Notices

EIS No. 000141, Draft EIS, AFS, Forest Service Roadless Area Conservation, Implementation, Proposal to Protect Roadless Areas, In addition, the Agency is proposing special consideration for the Tongass National Forest, Due: July 17, 2000, Contact: Scott Conroy (703) 605-5299. Revision of FR notice published on 05/19/2000: CEQ Comment Date corrected from 07/03/2000 to 07/17/2000.

Dated: May 23, 2000.
Joseph C. Montgomery,
Director, NEPA Compliance Division, Office of Federal Activities.

[FR Doc. 00-13303 Filed 5-25-00; 8:45 am]

BILLING CODE 6560-50-U